DEPARTMENT OF HOMELAND SECURITY

U.S. Customs and Border Protection

Notice of Implementation of Addressing Certain Tariffs on Imported Articles Pursuant to the President's Executive Order 14289

AGENCY: U.S. Customs and Border Protection, Department of Homeland Security.

ACTION: Notice.

SUMMARY: In order to effectuate the President's Executive Order 14289, “Addressing Certain Tariffs on Imported Articles,” which eliminates the compounding or “stacking” of certain overlapping tariffs that were imposed under various statutory authorities and Executive orders to protect national security and address unusual and extraordinary threats to the national security, foreign policy, and economy of the United States, the Secretary of Homeland Security has determined that appropriate action is needed to ensure collection of applicable duties as well as to modify the Harmonized Tariff Schedule of the United States (HTSUS) as set out in the Annex to this notice.

DATES: The HTSUS is modified with respect to covered articles, as set out in the Annex to this document, at 12:01 a.m. eastern daylight time on May 16, 2025. The amendments shall apply to all covered articles that were entered for consumption, or withdrawn from warehouse for consumption, as specified in the Annex to this document. Requests for refunds may be filed on or after May 16, 2025.

FOR FURTHER INFORMATION CONTACT: Brandon Lord, Executive Director, Trade Policy and Programs, Office of Trade, U.S. Customs and Border Protection, (202) 325-6432 or by email at traderemedy@cbp.dhs.gov. C. Shane Campbell, Acting Executive Director, Cargo and Conveyance Security, Office of Field Operations, U.S. Customs and Border Protection, (202) 344-3401 or by email at traderemedy@cbp.dhs.gov.

SUPPLEMENTARY INFORMATION: The United States has imposed tariffs under various statutory authorities, including the International Emergency Economic Powers Act (50 U.S.C. 1701 et seq.) (IEEPA), the National Emergencies Act (50 U.S.C. 1601 et seq.), section 604 of the Trade Act of 1974, as amended (19 U.S.C. 2483), section 232 of the Trade Expansion Act of 1962, as amended (19 U.S.C. 1862), section 301 of title 3, United States Code, and Executive orders to protect national security, confront unusual and extraordinary threats to the national security, foreign policy, and economy of the United States, and promote the interests of American workers and industries. Although many of these actions, as listed below, serve separate and distinct policy purposes, on April 29, 2025, the President issued Executive Order 14289, “Addressing Certain Tariffs on Imported Articles” (90 FR 18907), in which the President determined that these tariffs should not all have a cumulative effect (or “stack” on top of one another). Therefore, to avoid the cumulative effect of overlapping tariffs on certain articles, Executive Order 14289 sets forth procedures for determining which tariffs should apply to an article when that article is subject to more than one of the actions listed in section 2 of Executive Order 14289, and set forth here:

(a) Proclamation 10908 of March 26, 2025 (“Adjusting Imports of Automobiles and Automobile Parts Into the United States”);

(b) Executive Order 14193 of February 1, 2025 (“Imposing Duties To Address the Flow of Illicit Drugs Across Our Northern Border”), as amended by Executive Order 14197 of February 3, 2025 (“Progress on the Situation at Our Northern Border”), Executive Order 14226 of March 2, 2025 (“Amendment to Duties To Address the Flow of Illicit Drugs Across Our Northern Border”), and Executive Order 14231 of March 6, 2025 (“Amendment to Duties to Address the Flow of Illicit Drugs Across Our Northern Border”);

(c) Executive Order 14194 of February 1, 2025 (“Imposing Duties To Address the Situation at Our Southern Border”), as amended by Executive Order 14198 of February 3, 2025 (“Progress on the Situation at Our Southern Border”), Executive Order 14227 of March 2, 2025 (“Amendment to Duties To Address the Situation at Our Southern Border”), and Executive Order 14232 of March 6, 2025 (“Amendment to Duties to Address the Flow of Illicit Drugs Across Our Southern Border”);

(d) Proclamation 9704 of March 8, 2018 (“Adjusting Imports of Aluminum Into the United States”),¹ as amended by Proclamation 9980 of January 24, 2020 (“Adjusting Imports of Derivative Aluminum Articles and Derivative Steel Articles Into the United States”), and Proclamation 10895 of February 10, 2025 (“Adjusting Imports of Aluminum Into the United States”);

¹ The reference to Proclamation 9704 of March 8, 2018, encompasses Proclamation 10522 of February 24, 2023 (Adjusting Imports of Aluminum Into the United States), which amended Clause 2 of Proclamation 9704 to subject aluminum articles that are products of Russia or containing aluminum smelt or cast in Russia and aluminum derivative articles that are products of Russia or containing aluminum smelt or cast in Russia to a 200 percent ad valorem duty rate.

(e) Proclamation 9705 of March 8, 2018 (“Adjusting Imports of Steel Into the United States”), as amended by Proclamation 9980 of January 24, 2020 (“Adjusting Imports of Derivative Aluminum Articles and Derivative Steel Articles Into the United States”), and Proclamation 10896 of February 10, 2025 (“Adjusting Imports of Steel Into the United States”).

Notwithstanding any provision of any action listed in section 2 of Executive Order 14289, where an imported article is subject to tariffs corresponding to more than one of the actions referenced in section 2 of Executive Order 14289, that article shall be subject to the appropriate action(s) as prioritized in the order established in section 3(a) of Executive Order 14289. The order of priority shall be as follows:

(1) If an article is subject to tariffs pursuant to the action listed in section 2(a) of Executive Order 14289, it will not be subject to additional tariffs listed in sections 2(b) through (e) of the order.

(2) If an article is subject to tariffs pursuant to the actions listed in section 2(b) or 2(c) of Executive Order 14289, it will not be subject to additional tariffs listed in section 2(d) or 2(e) of the order.

(3) If an article is subject to tariffs pursuant to the actions listed in section 2(d) of Executive Order 14289, it will be subject to any applicable additional tariffs listed in section 2(e) of the order, provided the article otherwise satisfies all conditions necessary for application of those additional tariffs. Likewise, if an article is subject to tariffs pursuant to the actions listed in section 2(e) of the order, it will be subject to any applicable additional tariffs listed in section 2(d) of the order, provided the article otherwise satisfies all conditions necessary for application of those additional tariffs.

In accordance with section 4 of Executive Order 14289, nothing in the order shall be interpreted to alter or limit the application of any duties, taxes, fees, or exactions other than those imposed pursuant to the actions listed in section 2 of Executive Oder 14289. Accordingly, an article that is subject to duties pursuant to an action listed in section 2 of Executive Order 14289 may still be subject to other applicable duties, taxes, fees, exactions, and charges, such as, but not limited to: those set forth in column 1 of the Harmonized Tariff Schedule of the United States (HTSUS); imposed pursuant to section 301 of the Trade Act of 1974, as amended; imposed pursuant to Executive Order 14195 of February 1, 2025 (“Imposing Duties To Address the Synthetic Opioid Supply Chain in the People's Republic of China”), as amended; and antidumping and countervailing duties.

Goods qualifying for preferential tariff treatment under the United States-Mexico-Canada Agreement (USMCA), will not be subject to additional tariffs on parts of passenger vehicles and light trucks listed in section 2(a) of Executive Order 14289; ² and goods qualifying for preferential tariff treatment under USMCA will not be subject to additional tariffs listed in section 2(b) or 2(c) of Executive Order 14289. Instead, such goods will be subject to additional tariffs listed in sections 2(d) and/or 2(e) of Executive Order 14289, as applicable, in addition to any other applicable tariff.

² In accordance with Proclamation 10908 of March 26, 2025, goods that received preferential tariff treatment under USMCA will not be subject to additional tariffs for parts of passenger vehicles and light trucks listed in section 2(a) of Executive Order 14289 until such time that the Secretary of Commerce, in consultation with CBP, establishes a process to apply the tariff exclusively to the value of the non-U.S. content of such automobile parts and publishes notice in the Federal Register.

For covered articles that were entered for consumption, or withdrawn from warehouse for consumption, as specified in this Annex, and for which the accompanying duty payment included tariffs that would not be required under Executive Order 14289, importers may request a refund by filing a post summary correction (PSC) ³ for unliquidated entries or filing a protest under 19 U.S.C. 1514 for entries that have liquidated but where the protest period has not expired. The Secretary of Homeland Security has determined that appropriate action is needed to modify the HTSUS as set out in the Annex to this notice.

³ Post-Summary Corrections to Entry Summaries Filed in ACE Pursuant to the ESAR IV Test (Post-Summary Corrections Test), 76 FR 37136 (June 24, 2011). CBP has modified and clarified various aspects of the Post-Summary Corrections Test through a series of subsequent Federal Register notices.

Kristi Noem,
Secretary.

Annex

To Modify Chapter 99 of the Harmonized Tariff Schedule of the United States

“A. Effective with respect to goods entered for consumption, or withdrawn from warehouse for consumption, on or after 12:01 a.m. eastern time on April 3, 2025, subdivision (a) of note 33 to subchapter III of chapter 99 of the Harmonized Tariff Schedule of the United States (HTSUS) is modified by inserting the following clause at the end of the last sentence of the second paragraph after “heading 9903.94.01”:

“, except that entries of passenger vehicles (sedans, sport utility vehicles, crossover utility vehicles, minivans, and cargo vans) and entries of light trucks shall not be subject to: (1) the additional duties imposed on entries of articles the product of Canada under heading 9903.01.10; (2) the additional duties imposed on entries of articles the product of Mexico under heading 9903.01.01; (3) the additional duties imposed on entries of products of aluminum under heading 9903.85.02; (4) the additional duties imposed on entries of derivative aluminum products under headings 9903.85.04, 9903.85.07 and 9903.85.08; (5) the additional duties imposed on entries of iron or steel products under headings 9903.81.87 and 9903.81.88; and (6) the additional duties imposed on entries of derivative iron or steel products under headings 9903.81.89, 9903.81.90, 9903.81.91 and 9903.81.93”.

“B. Effective with respect to goods entered for consumption, or withdrawn from warehouse for consumption, on or after 12:01 a.m. eastern time on May 3, 2025, subdivision (f) of note 33 to subchapter III of chapter 99 of the HTSUS is modified by inserting the following clause at the end of the last sentence of the second paragraph after “heading 9903.94.05”:

“, except that entries of parts of passenger vehicles (sedans, sport utility vehicles, crossover utility vehicles, minivans, and cargo vans) and entries of parts of light trucks shall not be subject to: (1) the additional duties imposed on entries of articles the product of Canada under heading 9903.01.10; (2) the additional duties imposed on entries of articles the product of Mexico under heading 9903.01.01; (3) the additional duties imposed on entries of products of aluminum under heading 9903.85.02; (4) the additional duties imposed on entries of derivative aluminum products under headings 9903.85.04, 9903.85.07 and 9903.85.08; (5) the additional duties imposed on entries of iron or steel products under headings 9903.81.87 and 9903.81.88; and (6) the additional duties imposed on entries of derivative iron or steel products under headings 9903.81.89, 9903.81.90, 9903.81.91 and 9903.81.93”.

“C. Effective with respect to goods entered for consumption, or withdrawn from warehouse for consumption, on or after 12:01 a.m. eastern time on March 4, 2025:

1. subdivision (j) of note 2 to subchapter III of chapter 99 of the HTSUS is modified by inserting the following clause at the end of the fifth paragraph after “and 9903.01.13”:

“, except that entries of products of Canada shall not be subject to: (1) the additional duties imposed on entries of products of aluminum under heading 9903.85.02; (2) the additional duties imposed on entries of derivative aluminum products under headings 9903.85.04, 9903.85.07 and 9903.85.08; (3) the additional duties imposed on entries of iron or steel products under headings 9903.81.87 and 9903.81.88; and (4) the additional duties imposed on entries of derivative iron or steel products under headings 9903.81.89, 9903.81.90, 9903.81.91 and 9903.81.93”; and

2. subdivision (a) of note 2 to subchapter III of chapter 99 of the HTSUS is modified by inserting the following clause at the end of the fifth paragraph after “by heading 9903.01.01”:

“, except that entries of products of Mexico shall not be subject to: (1) the additional duties imposed on entries of products of aluminum under heading 9903.85.02; (2) the additional duties imposed on entries of derivative aluminum products under headings 9903.85.04, 9903.85.07 and 9903.85.08; (3) the additional duties imposed on entries of iron or steel products under headings 9903.81.87 and 9903.81.88; and (4) the additional duties imposed on entries of derivative iron or steel products under headings 9903.81.89, 9903.81.90, 9903.81.91 and 9903.81.93”.

“D. Effective with respect to goods entered for consumption, or withdrawn from warehouse for consumption, on or after 12:01 a.m. eastern time on March 7, 2025:

1. subdivision (l) of note 2 to subchapter III of chapter 99 of the HTSUS is modified by inserting the following new fifth paragraph:

“Products of Canada that are provided for in heading 9903.01.14 shall continue to be subject to antidumping, countervailing, or other duties, taxes, fees, exactions and charges that apply to such products, and products of Canada that are provided for in heading 9903.01.14 shall be subject to: (1) the additional duties imposed on entries of aluminum products under heading 9903.85.02; (2) the additional duties imposed on entries of derivative aluminum products under headings 9903.85.04, 9903.85.07 or 9903.85.08; (3) the additional duties imposed on entries of iron or steel products under headings 9903.81.87 or 9903.81.88; and (4) the additional duties imposed on entries of derivative iron or steel products under headings 9903.81.89, 9903.81.90, 9903.81.91 or 9903.81.93.”; and

2. subdivision (c) of note 2 to subchapter III of chapter 99 of the HTSUS is modified by inserting the following new fifth paragraph:

“Products of Mexico that are provided for in heading 9903.01.04 shall continue to be subject to antidumping, countervailing, or other duties, taxes, fees, exactions and charges that apply to such products, and products of Mexico that are provided for in heading 9903.01.04 shall be subject to: (1) the additional duties imposed on entries of aluminum products under heading 9903.85.02; (2) the additional duties imposed on entries of derivative aluminum products under headings 9903.85.04, 9903.85.07 or 9903.85.08; (3) the additional duties imposed on entries of iron or steel products under headings 9903.81.87 or 9903.81.88; and (4) the additional duties imposed on entries of derivative iron or steel products under headings 9903.81.89, 9903.81.90, 9903.81.91 or 9903.81.93.”.

“E. Effective with respect to goods entered for consumption, or withdrawn for warehouse for consumption, on or after 12:01 eastern time on March 12, 2025, subdivision (h) of note 19 to subchapter III of chapter 99 of the HTSUS is modified by inserting the following new sentence at the end of the paragraph:

“Entries of derivative aluminum products under headings 9903.85.04, 9903.85.07 and 9903.85.08 shall also be subject to the additional duties imposed on entries of derivative iron and steel products by headings 9903.81.89, 9903.81.90, 9903.81.91 and 9903.81.93, provided that the derivative aluminum products otherwise satisfy all conditions necessary for application of the additional duties on entries of derivative iron and steel products.”.

“F. Effective with respect to goods entered for consumption, or withdrawn for warehouse for consumption, on or after 12:01 eastern time on March 12, 2025, subdivision (k) of note 16 to subchapter III of chapter 99 of the HTSUS is modified by inserting the following new sentence at the end of the paragraph:

“Entries of derivative iron or steel products under headings 9903.81.89, 9903.81.90, 9903.81.91 and 9903.81.93 shall also be subject to the additional duties imposed on entries of derivative aluminum products by headings 9903.85.04, 9903.85.07 and 9903.85.08, provided that the derivative iron or steel products otherwise satisfy all conditions necessary for application of the additional duties on entries of derivative aluminum products.”.

[FR Doc. 2025-09066 Filed 5-15-25; 4:30 pm]

BILLING CODE 9111-14-P